INTERNATIONAL TRADE COMMISSION

[Investigation Nos. 701-TA-452 and 731-TA-1129-1130 (Second Review)]

Raw Flexible Magnets From China and Taiwan; Determination

On the basis of the record ¹ developed in the subject five-year reviews, the United States International Trade Commission (“Commission”) determines, pursuant to the Tariff Act of 1930 (“the Act”), that revocation of the countervailing duty order on raw flexible magnets from China and revocation of the antidumping duty orders on raw flexible magnets from China and Taiwan would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on January 2, 2019 (84 FR 8) and determined on April 12, 2019 that it would conduct expedited reviews (84 FR 26156, June 5, 2019).

The Commission made these determinations pursuant to section 751(c) of the Act (19 U.S.C. 1675(c)). It completed and filed its determinations in these reviews on July 12, 2019. The views of the Commission are contained in USITC Publication 4921 (July 2019), entitled Raw Flexible Magnets from China and Taiwan, Investigation Nos. 701-TA-452 and 731-TA-1129-1130 (Second Review).

By order of the Commission.
Issued: July 12, 2019.
Lisa Barton,
Secretary to the Commission.

[FR Doc. 2019-15218 Filed 7-16-19; 8:45 am]

BILLING CODE 7020-02-P